DEPARTMENT OF COMMERCE

National Oceanic and Atmospheric Administration

[I.D. 112006G]

Endangered and Threatened Species; Take of Anadromous Fish

AGENCY: National Marine Fisheries Service (NMFS), National Oceanic and Atmospheric Administration (NOAA), Commerce.

ACTION: Notice of receipt of a permit application; request for comments.

SUMMARY: Notice is hereby given that NOAA Fisheries has received an application for a permit to conduct research for scientific purposes from Elise Kelley, researcher at the University of California at Santa Barbara, in Santa Barbara County, California. The requested permit would affect the Southern California Coast Distinct Population Segment of endangered steelhead (Oncorhynchus mykiss). The public is hereby notified of the availability of the permit application for review and comment before NOAA Fisheries either approves or disapproves the application.

DATES: Written comments on the permit application must be received at the appropriate address or fax number (see ADDRESSES) on or before January 3, 2007.

ADDRESSES: Written comments on the permit application should be sent to Matt McGoogan, Protected Resources Division, NOAA Fisheries, 501 W. Ocean Blvd., Suite 4200, Long Beach, CA 90802. Comments may also be sent using email (FRNpermits.lb@noaa.gov) or fax (562.980.4027). The permit application is available for review, by appointment only, at the foregoing address.

FOR FURTHER INFORMATION CONTACT: Matt McGoogan at phone number (562.980.4026) or e-mail: matthew.mcgoogan@noaa.gov

SUPPLEMENTARY INFORMATION:

Authority:

Issuance of permits, as required by the Endangered Species Act of 1973 (16 U.S.C. 1531B1543) (ESA), is based on a finding that such permits: (1) Are applied for in good faith; (2) would not operate to the disadvantage of the listed species which are the subject of the permits; and (3) are consistent with the purposes and policies set forth in section 2 of the ESA. Authority to take listed species is subject to conditions set forth in the permits. Permits are issued in accordance with and are subject to the ESA and NOAA Fisheries regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NOAA Fisheries.

Permit Application Received

Elise Kelley has applied for a scientific research permit to conduct a study with the Southern California Coast Distinct Population Segment of endangered steelhead (Oncorhynchus mykiss) in the Santa Ynez River and Santa Clara River systems respectively located in Santa Barbara and Ventura Counties in southern California. The purpose of this study is to assess steelhead smolt residence time in the Santa Clara River and Santa Ynez River estuaries, assess steelhead smolt survival in the estuaries using acoustic tags, and assess adult steelhead return and straying rates in southern California by placing Passive Integrated Transponder (PIT) tags in steelhead smolts. This study will be conducted during 3 years with sufficient flows and number of smolts. Due to the patterns of dry and wet years for this region it may take as many as 10 years to get the desired 3 years of data. Therefore, the duration of coverage requested by this permit covers about a 10-year period from January 2006 through July 2015. Elise Kelley has requested an annual non-lethal take of up to 575 steelhead. The annual unintentional lethal take that may occur during data collection is up to 16 steelhead or no more than 3 per cent of the total captured.

Dated: November 29, 2006.
Angela Somma,
Chief, Endangered Species Division, Office of Protected Resources, National Marine Fisheries Service.

[FR Doc. E6-20450 Filed 12-1-06; 8:45 am]

BILLING CODE 3510-22-S